DEPARTMENT OF TRANSPORTATION

Federal Highway Administration

[FHWA Docket No. FHWA-2006-24957]

Safe Routes to School Task Force to the Secretary of Transportation

AGENCY: Federal Highway Administration (FHWA), DOT.

ACTION: Notice of intent to form an advisory committee.

SUMMARY: Pursuant to section 1404 (h) of the Safe, Accountable, Flexible, Efficient Transportation Equity Act: A Legacy for Users (SAFETEA-LU), the Secretary of Transportation is establishing a Safe Routes to School Task Force to study and develop a strategy for advancing safe routes to school programs nationwide. The FHWA Office of Safety will serve as sponsor of the Task Force for the Secretary. The purpose of this notice is to invite interested parties to submit comments to the FHWA on the strategy or issues that should be discussed by the Task Force, and the organizations and participants to be considered for representation on the Task Force.

DATES: Comments and/or applications for membership or nominations for membership on the Task Force must be received on or before August 10, 2006.

FOR FURTHER INFORMATION CONTACT: Mr. Tim Arnade, Safe Routes to School Program Manager, FHWA Office of Safety Programs, 202-366-2205(Tim.Arnade@dot.gov); or Ms. Lisa MacPhee, Office of the Chief Counsel, (202) 366-1392 (Lisa.MacPhee@dot.gov); 400 Seventh Street, SW., Washington, DC 20590. Office hours are from 7:45 a.m. to 4:15 p.m., e.t., Monday through Friday, except Federal holidays.

SUPPLEMENTARY INFORMATION:

Electronic Access

You may submit or retrieve comments online through the Document Management System (DMS) at: http://dms.dot.gov/submit. The DMS is available 24 hours each day, 365 days each year. Electronic submission and retrieval help and guidelines are available under the help section of the Web site.

An electronic copy of this document may be downloaded from the Federal Register's home page at: http://www.archives.gov and the Government Printing Office's database at: http://www.access.gpo.gov/nara.

Anyone is able to search the electronic form of all comments received into any of our dockets by the name of the individual submitting the comment (or signing the comment, if submitted on behalf of an association, business, labor union, etc.). You may review DOT's complete Privacy Act Statement in a Federal Register published on April 11, 2000 (70 FR 19477), or you may visit http://dms.dot.gov.

Please note that even after the comment closing date, we will continue to file relevant information in the Docket as it becomes available. Further, some people may submit late comments and we recommend that you periodically check the Docket for new material. We will consider late comments to the extent practicable.

Background

On August 10, 2005, the President signed into law the Safe, Accountable, Flexible, Efficient Transportation Equity Act: A Legacy for Users (SAFETEA-LU) (Pub. L. 109-59, 119 Stat. 1144). Section 1404 (h) of SAFETEA-LU mandates the establishment of a Safe Routes to School Task Force.

The DOT has determined that the establishment of the Task Force falls within the scope of the Federal Advisory Committee Act (FACA), 5 U.S.C. App. II.

A. Notice of Intent To Establish a Task Force and Request for Comment

In accordance with the requirements of the FACA, an agency of the Federal government cannot establish or utilize a group of people in the interest of obtaining consensus advice or recommendations unless that group is chartered as a Federal advisory committee. The purpose of this notice is to indicate the FHWA's intent to create a Task Force to study and develop a strategy for advancing safe routes to school programs nationwide, including information regarding the use of funds for infrastructure-related and noninfrastructure-related activities funded by the new Federal aid Safe Routes to School Program.

B. Name of Committee

National Safe Routes to School Task Force.

C. Purpose and Objective

The National Safe Routes to School Task Force will study and develop a strategy for advancing safe routes to school programs nationwide and will submit a report to the Secretary containing the results of the study conducted, a description of the strategy developed, and information regarding use of funds for infrastructure related projects and non-infrastructure related activities funded by the new Federal aid Safe Routes to School Program.

The Safe Routes to School (SRTS) Task Force does not exercise program management or regulatory development responsibilities, and makes no decisions directly affecting the programs on which it provides advice. The SRTS Task Force provides a forum for the development, consideration, and communication of information from a knowledgeable and independent perspective of a strategy for advancing Safe Routes to School Programs nationwide.

D. Balanced Membership Plans

Task Force members shall represent a cross-section of the diverse agencies, organizations and individuals that are involved in Safe Routes to School activities and programs in the U.S. According to section 1404(h) of SAFETEA-LU, “The Secretary shall establish a Safe Routes to School Task Force composed of leaders in health, transportation, and education, including representatives of appropriate Federal agencies.” Pursuant to Congressional conference report language, Congress acknowledges the need to include a broad range of agencies and organizations in the Task Force and “members could include representatives from State and local agencies as well as relevant non-profit organizations and associations including organizations or associations that represent automobile drivers.”

This document gives notice to potential participants of the process and affords them the opportunity to request representation on the SRTS Task Force. The procedure for requesting such representation is set out below. In addition, we invite comments and suggestions for potential participants.

The FHWA is aware that there are many more potential organizations and participants than there are membership positions on the SRTS Task Force. It is very important to recognize that interested parties who are not selected for membership on the SRTS Task Force can make valuable contributions to the work of the SRTS Task Force in several ways. For example, the person or organization could request to be placed on the SRTS Task Force mailing list, submitting written comments, as appropriate.

Any member of the public is welcome to attend the SRTS Task Force meetings, and, as provided in FACA, speak to the SRTS Task Force. Time will be set aside during each meeting for this purpose, consistent with the SRTS Task Force's need for sufficient time to complete its deliberations.

E. Applications for Membership

Each application for membership or nomination to the Task Force should include:

(1) A brief resume or letter (no more than one page) demonstrating the applicant or nominee's knowledge in SRTS projects or programs and why they are interested in serving on the Task Force (please note, resumes or letters will be posted on the public docket and therefore should not contain personal information such as date of birth, etc).

(2) The name of the applicant or nominee and the interest(s) identified in either section 1404 (h) of SAFETEA-LU or the conference report language such person would represent;

(3) Evidence that the applicant or nominee is authorized to represent parties related to the interest(s) the person proposes to represent; and

(4) A written commitment that the applicant or nominee would participate in good faith.

Since all comments and/or applications for membership or nominations for membership on the Task Force will be posted on the Public Docket, we encourage you to include only that information you are willing to provide for the public docket and submit your application electronically using the docket number provided on this notice through the U.S. DOT online Document Management System found at: http://dms.dot.gov/submit.

Every effort will be made to select Task Force members who are objective. A balanced membership is needed and weight will be given to a variety of factors including but not limited to geographical distribution, gender, minority status, organization, and expertise.

Members of the Task Force may receive travel and per diem, as allowed by Federal regulations and U.S. Department of Transportation policy.

F. Duration

Two years from the establishment of the Task Force Charter.

G. Notice of Establishment

After evaluating applications and nominations received as a result of this notice, the Department will publish in the Federal Register a notice announcing the establishment and composition of the SRTS Task Force.

(Authority: Section 1914 of Pub. L. 109-59.)

Issued on: July 3, 2006.
J. Richard Capka,
Federal Highway Administrator.

[FR Doc. E6-10754 Filed 7-10-06; 8:45 am]

BILLING CODE 4910-22-P